DEPARTMENT OF THE INTERIOR

National Park Service

Notice of Intent To Prepare an Oil and Gas Management Plan/Draft Environmental Impact Statement for Big Cypress National Preserve, Florida

SUMMARY: In accordance with Section 102(2)(c) of the National Environmental Policy Act of 1969, the National Park Service is preparing an Oil and Gas Management Plan/Draft Environmental Impact Statement for Big Cypress National Preserve in Collier, Miami-Dade and Monroe Counties, Florida, and is initiating the scoping process for this document.

DATES: Open houses will be held on the following dates:

July 11, 2001, 3:30 to 7:30 p.m., Miami, Florida,

July 12, 2001, 3:30 to 7:30 p.m., Naples, Florida.

Comments on this scoping process should be received by July 27, 2001. An Oil and Gas Management Plan/Draft Environmental Impact Statement should be available for review by Fall 2002.

ADDRESSES: The meeting locations are:

1. Miami—Florida International University, Graham Center Ballroom West, 11200 SW 8th Street, Miami, Florida 33199.

2. Naples—The Conservancy of Southwest Florida, 1450 Merihue Drive, Naples, Florida 33440.

Send requests to be placed on the mailing list to Susan Kaynor, EIS Coordinator, Big Cypress National Preserve, HCR 61, Box 110, Ochopee, Florida 34141, telephone 941-695-2000.

SUPPLEMENTARY INFORMATION: The Oil and Gas Management Plan/Draft Environmental Impact Statement is needed to address the issues of how the National Park Service can protect its resources and values, ensure public safety, and minimize conflicts with visitors and park management while recognizing the rights of private mineral owners to develop their oil and gas resources. In the Oil and Gas Management Plan/Draft Environmental Impact Statement and its accompanying public involvement process, the National Park Service will formulate and evaluate the environmental impacts of a reasonable range of alternatives that will provide protection for resources and values at Big Cypress National Preserve while allowing for exploration and development of the private mineral estate. Distinct management issues include identifying which park resources and values are most sensitive to oil and gas exploration and development disturbances, defining impact mitigation requirements to protect such resources and values, establishing reasonable performance standards and providing pertinent information to oil and gas owners and operators that will facilitate operations planning.

A public scoping newsletter will be mailed in May 2001 to invite public participation in the scoping process and to describe the planning process. The general public and affected or interested parties are encouraged to provide comments and suggestions, and to identify issues and other reasonable alternatives that should be addressed in the Oil and Gas Management Plan/Draft Environmental Impact Statement.

Our practice is to make comments, including names and home addresses of respondents, available for public review during regular business hours. If you wish for us to withhold your name and/or address, you must state this prominently at the beginning of your comment. However, we will not consider anonymous comments. We will make all submissions from organizations or businesses, and from individuals identifying themselves as representatives or officials of organizations nor businesses, available for public inspection in their entirety.

FOR FURTHER INFORMATION: Please contact the Superintendent, Big Cypress National Preserve, HCR 61, Box 110, Ochopee, Florida 34141, telephone 941-695-2000 with any comments you may have or for information.

Dated: May 3, 2001.
W. Thomas Brown,
Regional Director, Southeast Region.

[FR Doc. 01-14791 Filed 6-11-01; 8:45 am]

BILLING CODE 4310-70-M